FEDERAL COMMUNICATIONS COMMISSION

Notice of Public Information Collection(s) Being Reviewed by the Federal Communications Commission, Comments Requested

May 3, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before July 6, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email Judith-b.herman@fcc.gov.

SUPPLEMENTARY INFORMATION: OMB Control Number: 3060-1135.

Title: Revisions to Rules Authorizing the operation of Low Power Auxiliary Stations (Including Wireless Microphones).

Form No.: N/A.

Type of Review: Revision of a currently approved collection.

Respondents: Business or other for-profit, not-for-profit institutions, and state local or tribal government.

Number of Respondents and Responses: 5,100 respondents; 127,500 responses.

Estimated Time Per Response: .25 hours (15 minutes).

Frequency of Response: Third party disclosure requirements (disclosure and labeling).

Obligation to Respond: Mandatory. Statutory authority for this information collection is contained in 47 U.S.C. sections 151, 152, 154(i), 154(j), 301, 302(a), 303, 304 307, 308, 309, 316, 332, 336 and 337.

Total Annual Burden: 31,875 hours.

Total Annual Cost: $1,625,000.

Privacy Act Impact Assessment: N/A.

Nature and Extent of Confidentiality: There is no need for confidentiality since this a third party disclosure and labeling requirement.

Needs and Uses: The Commission will submit this revision to the Office of Management and Budget (OMB) after this comment period in order to obtain the full three year clearance from them. The Commission is requesting a revision of this collection which eliminates the early clearing requirement burden as it will be unnecessary after June 12, 2010 while keeping the disclosure and labeling requirements that would allow the Commission to clear the 700 MHz band of wireless microphones and provide them a home in the core TV spectrum, where many wireless microphones are already operating. Therefore, the Commission is reducing the total annual burden for this collection by 1,049 hours (program change).

The point-of-sale disclosure requirement is necessary for a successful transition of wireless microphones out of the 700 MHz band. The Commission anticipates that many wireless microphone users currently operating in the 700 MHz band will have to purchase or lease new equipment capable of operating in the core TV spectrum. The point-of-sale disclosure requirement will help these consumers make an educated decision as they obtain new microphones, and it will help them operate in the core TV spectrum without causing interference to other services in the spectrum. Further, a label on 700 MHz band wireless microphones bound for export will help to ensure that these wireless microphones do not continue to be made available for use in the United States, in contravention of our efforts to remove them from the 700 MHz band.

Federal Communications Commission.
Marlene H. Dortch,
Secretary,
Office of the Secretary,
Office of Managing Director.

[FR Doc. 2010-10759 Filed 5-6-10; 8:45 am]

BILLING CODE 6712-01-S